DEPARTMENT OF COMMERCE

National Oceanic and Atmospheric Administration

RIN 0648-XA852

Endangered and Threatened Species; 5-Year Reviews for 4 Distinct Population Segments of Steelhead in California

AGENCY: National Marine Fisheries Service (NMFS), National Oceanic and Atmospheric Administration (NOAA), Commerce.

ACTION: Notice of availability of 5-year reviews.

SUMMARY: We, the National Marine Fisheries Service (NMFS) Southwest Region, announce the availability of 5-year reviews for four DPSs of steelhead (Oncorhynchus mykiss) in California, as required by the Endangered Species Act (ESA). Information about the 5-year review process, including copies of the 5-year review reports, may be obtained by visiting the NMFS Southwest Regional Office Web site at http://swr.nmfs.noaa.gov/.

ADDRESSES: Additional information about the 5-year review process, including copies of the 5-year review reports, may be obtained by visiting the NMFS Southwest Regional Office Web site at http://swr.nmfs.noaa.gov/ or by writing to us at: NMFS Southwest Region, 501 W. Ocean Blvd., Suite 4200, Long Beach, CA 90802; Attn: Craig Wingert.

FOR FURTHER INFORMATION CONTACT: Craig Wingert at the above address or at (562) 980-4021.

SUPPLEMENTARY INFORMATION:

Background

Under the ESA, a list of endangered and threatened wildlife and plant species must be maintained. The list is published at 50 CFR 17.11 (for animals) and 17.12 (for plants). Section 4(c)(2)(A) of the ESA requires that NMFS conduct a review of listed species under its jurisdiction at least once every 5 years (“5-year reviews”). In conducting 5-year reviews, we consider the best scientific and commercial data, including new information that has become available since the last listing determination or most recent status review of a species.

On March 18, 2010, NMFS announced the initiation of 5-year reviews for listed Pacific salmon ESUs and steelhead DPSs in California, Oregon, Washington, and Idaho (75 FR 13082). Both ESUs and DPSs are treated as “species” under the ESA and we use the term “species” to refer to both in the remainder of this notice. In the March 18, 2010 announcement, we requested new information regarding the biological status of these ESUs and DPSs and the factors that affect them from the public, concerned governmental agencies, Tribes, the scientific community, environmental entities, and other interested parties.

This notice of availability addresses our completed 5-year reviews for: (1) Northern California steelhead; (2) Central California Coast steelhead; (3) South-Central California Coast steelhead; and (4) Southern California steelhead. We used a two-step process to complete the reviews. First, we asked scientists from our Southwest Fisheries Science Center to collect and analyze new information about each species' viability. To evaluate each species' viability, our scientists applied the agency's Viable Salmonid Population framework, which relies on evaluating four key population parameters (abundance, productivity, spatial structure, and diversity). Using this framework, they compiled and evaluated all new relevant information on these four parameters and then updated the overall viability status of each species. They also considered new genetic and biogeographic information related to each species' freshwater and estuarine geographic boundaries. At the end of this process, the Center prepared a report detailing the results and conclusions from their analyses. To complete the review, fishery biologists from the Southwest Region and its field offices evaluated all information that has become available on the species since 2005, the date of its last biological status review.

The 5-year review reports prepared by the Southwest Region, the Southwest Science Center's updated status assessment, and additional information concerning these species are available on the Southwest Region's Web site: http://swr.nmfs.noaa.gov/. NMFS concludes that the 5-year review meets the requirements of the ESA.

Authority: 16 U.S.C. 1531 et seq.

Dated: November 30, 2011.
Angela Somma,
Chief, Endangered Species Division, Office of Protected Resources, National Marine Fisheries Service.

[FR Doc. 2011-31433 Filed 12-6-11; 8:45 am]

BILLING CODE 3510-22-P